DEPARTMENT OF THE INTERIOR

Bureau of Indian Affairs

[223A2100DD/AAKC001030/A0A501010.999900]

Cabazon Band of Cahuilla Indians; Amended Alcoholic Beverages Ordinance

AGENCY: Bureau of Indian Affairs, Interior.

ACTION: Notice.

SUMMARY: This notice publishes the amended Alcoholic Beverages Ordinance of the Cabazon Band of Cahuilla Indians. The Cabazon Band of Cahuilla Indian amended Alcoholic Beverages Ordinance regulates and controls the possession, sale, manufacture, and distribution of alcohol in conformity with the laws of the State of California.

DATES: This ordinance shall become effective June 13, 2022.

FOR FURTHER INFORMATION CONTACT: Mr. Felix Kitto, Deputy Regional Director, Indian Services, Pacific Regional Office, Bureau of Indian Affairs, 2800 Cottage Way, Room W-2820, Sacramento, California 95825, Telephone: (916) 978-6000, Fax: (916) 978-6099.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country. The Cabazon Band of Cahuilla Indian adopted the amended Alcoholic Beverages Ordinance on May 13, 2021.

This notice is published in accordance with the authority delegated by the Secretary of the Interior to the Assistant Secretary—Indian Affairs. I certify that the Business Committee of the Cabazon Band of Cahuilla Indians duly adopted the amended Alcoholic Beverages Ordinance on May 13, 2021.

Bryan Newland,
Assistant Secretary—Indian Affairs.

Cabazon Band of Cahuilla Indians' amended Tribal Alcoholic Beverages Ordinance shall read as follows:

Cabazon Band of Cahuilla Indians

Title 10

Amended Alcoholic Beverages Ordinance

Ch. 1. Regulation and Taxation of Alcoholic Beverages

Chapter 1. Regulation and Taxation of Alcoholic Beverages

Section 10-101—Authority

This chapter is enacted pursuant to the act of August 15, 1953 (Pub. L. 83-277, 67 Stat. 586, 18 U.S.C. 1161) which provides that Federal Indian liquor laws shall be inapplicable to any act or transaction within any area of Indian Country, provided such act or transaction is in conformity both with the laws of the state in which such act or transaction occurs and with an ordinance duly adopted by the tribe having jurisdiction over such area of Indian Country, certified by the Secretary of the Interior, and published in the Federal Register.

Section 10-102—Sale, Possession, etc. To Comply With Chapter Provisions

The introduction, sale or possession of alcoholic beverages shall be lawful on and within the Indian Country of the Cabazon Band of Cahuilla Indians (hereafter the “Cabazon Indian Reservation”), provided that such introduction, sale or possession is in conformity both with the laws of the State of California and with this chapter.

Section 10-103—Retail Sales

All retail sales of alcoholic beverages on the Cabazon Indian Reservation shall be conducted through one (1) or more retail outlets created, owned, established and operated by the Cabazon Band of Cahuilla Indians (the “Cabazon Band”). The Cabazon Band may form a tribal corporation or other tribal enterprise to engage in such retail sales activities. No other person or entity may engage in the retail sale of alcoholic beverages on or within the Cabazon Indian Reservation.

Section 10-104—Excise Tax

The Cabazon Band is hereby empowered to establish, levy and collect an excise tax upon the distribution of alcoholic beverages within the exterior boundaries of the Cabazon Indian Reservation.

Section 10-105—Sales Tax

The Cabazon Band is hereby empowered to establish, levy and collect a sales tax upon the purchase, use, consumption, handling or possession by a consumer of alcoholic beverages within the exterior boundaries of the Cabazon Indian Reservation.

Section 10-106—Repeal of Conflicting Legislation

Any law, resolution or ordinance heretofore enacted by the Cabazon Band which prohibits the introduction, sale or possession of alcoholic beverages on or within the Cabazon Indian Reservation is hereby repealed.

Section 10-107—Effective Date

This chapter shall be effective upon its certification by the Secretary of the Interior and its publication in the Federal Register.

[FR Doc. 2022-10207 Filed 5-11-22; 8:45 am]

BILLING CODE 4337-15-P